DEPARTMENT OF AGRICULTURE

Agricultural Marketing Service

[Document No. AMS-ST-14-0066]

Plant Variety Protection Board; Request for Nominations

AGENCY: Agricultural Marketing Service, USDA.

ACTION: Notice.

SUMMARY: The Plant Variety Protection Office (PVPO) is seeking candidates for the Plant Variety Protection Board (PVP Board). The PVP Board consists of 14 members, each of whom is appointed for a 2-year period, with no member appointed for more than three 2-year periods. The term of the present Board will expire in May 2015. In order to provide the Secretary of Agriculture with a broad choice from a diverse group of applicants, the PVPO is asking for nominated members to serve on the Board for 2 years from the date of appointment. PVP Board members will serve without compensation, except for standard government reimbursable expenses.

DATES: Nomination packages (an Application for Committee Membership (AD-755) and resume) must be received on or before February 6, 2015.

ADDRESSES: Nominations should be sent to Paul Zankowski, Plant Variety Protection Office (PVPO), Science and Technology, AMS, USDA, 1400 Independence Avenue SW., Room 4512, Washington, DC 20250; Telephone: (202) 720-1128; Fax: (202) 260-8976; Email: Paul.Zankowski@ams.usda.gov.

SUPPLEMENTARY INFORMATION: The Plant Variety Protection Act (PVPA) (7 U.S.C. 2321 et seq.) provides legal protection in the form of intellectual property rights to developers of new varieties of plants, which are reproduced sexually by seed or are tuber-propagated. A Certificate of Plant Variety Protection is awarded to an owner of a crop variety after an examination shows that it is new, distinct from other varieties, and genetically uniform and stable through successive generations. The term of protection is 20 years for most crops and 25 years for trees, shrubs, and vines.

The PVPA also provides for a statutory Board to be appointed by the Secretary of Agriculture (7 U.S. C. 2327). The duties of the Board are to: (1) Advise the Secretary of Agriculture concerning the adoption of rules and regulations to facilitate the proper administration of the PVPA; (2) provide advisory counsel to the Secretary of Agriculture on all appeals from the Examiner; and (3) advise the Secretary of Agriculture on any other matters under the Regulations and Rules of Practice and on all questions under section 44 of the PVPA, “Public Interest in Wide Usage” (7 U.S.C. 2404). Reestablishing the PVP Board is necessary and in the public interest.

The PVPA provides that “The Board shall consist of individuals who are experts in various areas of varietal development covered by this Act.” (7 U.S.C. 2327(a)). The Board membership “shall include farmer representation and shall be drawn approximately equally from the private or seed industry sector and from the sector of government or the public.” (7 U.S.C. 2327(a)).

The PVP Board consists of 14 members, each of whom is appointed for a 2-year period, with no member appointed for more than three 2-year periods. The term of the present Board will expire in May 2015. The first meeting of the new Board will most likely be held in the summer of 2015. In order to provide the Secretary of Agriculture with a broad choice from a diverse group of applicants, the PVPO is asking for nominated members to serve on the Board for 2 years from the date of appointment. PVP Board members will serve without compensation, except for standard government reimbursable expenses.

To ensure that the recommendations of the PVP Board take into account the needs of the diverse groups served by the U.S. Department of Agriculture (USDA) (from research and production to trade, use, and consumption), the USDA will vet every candidate who applies for membership to the Federal Advisory Committee. Each applicant must clear all stages of the vetting process. Vetting is a comprehensive personal and professional background investigation that specifically includes, but is not limited to, an analysis of each candidate's criminal history, bankruptcy filings, liens and judgments, affiliations and associations, lobbyist status, and prior involvement with USDA. This process is used to ensure that the finest candidates are selected to represent the interests of the USDA.

Nomination packages with completed AD 755 background information forms and resumes should be submitted no later than February 6, 2015. Final selection of members will be made by the Secretary of Agriculture. All nomination materials should be mailed in a single, complete package to: Paul Zankowski, Commissioner; Plant Variety Protection Office; 1400 Independence Avenue SW., Room 4512; Washington DC 20250.

USDA has special interest in assuring that women, minority groups, and the physically disabled are adequately represented on these advisory committees. Nominations for female, minority, or disabled candidates are welcomed and encouraged.

Please see http://www.ams.usda.gov/PVPO and click on PVPO Board (under Resources on the right side) for information on the Charter, and AD 755 form. The AD-755 form can also be found on the USDA Advisory Committee Web site (www.usda.gov/advisory_committees.xml). The Charter for the PVP Board is available on the Web site at: http://www.facadatabase.gov/download.aspx?fn=Charters/1309_2013.09.11_PVPBCharter2.7.13_(2013-09-11-05-03-31).pdf or may be requested by contacting the individual identified in the ADDRESSES section of this notice.

USDA prohibits discrimination in all its programs and activities on the basis of race, color, national origin, gender, religion, age, disability, political beliefs, sexual orientation, and marital or family status. Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Dated: December 22, 2014.
Rex A. Barnes,
Associate Administrator, Agricultural Marketing Service.

[FR Doc. 2014-30302 Filed 12-24-14; 8:45 am]

BILLING CODE 3410-02-P